DEPARTMENT OF HEALTH AND HUMAN SERVICES

Administration for Children and Families

Correction

The Office of Community Services Program Announcement HHS-2005-ACF-OCS-EN-0018 was published in the Federal Register on June 6, 2005.

On page 32794 of this announcement, the due date for applications is July 21, 2005.

On page 32800 of this announcement, the due date for applications is August 5, 2005.

The correct due date for applications for this announcement is July 21, 2005.

Dated: June 6, 2005.
Josephine B. Robinson,
Director, Office of Community Services.

[FR Doc. 05-11591 Filed 6-10-05; 8:45 am]

BILLING CODE 4184-01-P